ENVIRONMENTAL PROTECTION AGENCY

[EPA-HQ-OPP-2025-0026; FRL-12472-01-OCSPP]

Pesticide Product Registration; Receipt of Applications for New Uses (January 2025)

AGENCY: Environmental Protection Agency (EPA).

ACTION: Notice of receipt and request for comment.

SUMMARY: This document announces the Agency's receipt of and solicits comment on applications to register pesticide products containing currently registered active ingredients that would entail a changed use pattern. EPA provides a notice of receipt on a monthly basis, using the month and year in the title to help distinguish one document from the other. This document identifies those applications that have been received and are currently being evaluated by EPA in accordance with the Federal Insecticide, Fungicide, and Rodenticide Act (FIFRA).

DATES: Comments must be received on or before June 2, 2025.

ADDRESSES: Submit your comments, identified by the docket identification (ID) number and the EPA File Symbol or the EPA Registration Number of interest as shown in Unit II. of this document, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA is taking this action pursuant to section 3(c)(4) of the Federal Insecticide, Fungicide, and Rodenticide Act (FIFRA), 7 U.S.C. 136a(c)(4), and 40 CFR 152.102.

C. What action is the Agency taking?

EPA is hereby providing notice of receipt and opportunity to comment on applications to register pesticide products containing currently registered active ingredients that would entail a changed use pattern. Notice of receipt of these applications does not imply a decision by the Agency on these applications. The applications identified in this document have been received and are currently being evaluated by EPA. For actions being evaluated under EPA's public participation process for registration actions, there will be an additional opportunity for public comment on the proposed decisions. Please see EPA's public participation website for additional information on this process (https://www.epa.gov/pesticide-registration/public-participation-process-registration-actions).

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov//commenting-epa-dockets.

II. Applications To Register New Uses

This unit provides the following information about the applications that have been received and are currently being evaluated by EPA: The EPA File Symbol or Registration number(s); EPA docket ID number for the application; Name and address of the applicant; Name of the active ingredient, product type and proposed uses; and the division to contact for that application. Additional information about the application may also be available in the related docket identified for the application.

• EPA Registration Number: 100-899 and 100-963. Docket ID number: EPA-HQ-OPP-2025-0042. Applicant: Syngenta Crop Protection, LLC P.O. Box 18300, Greensboro, NC 27419. Active ingredient: Thiabendazole. Product type: Fungicide. Proposed use: Cottonseed crop subgroup 20C. Contact: RD.

Authority: 7 U.S.C. 136 et seq.

Dated: April 23, 2025.
Kimberly Smith,
Acting Director, Information Technology and Resources Management Division, Office of Program Support.

[FR Doc. 2025-07601 Filed 5-1-25; 8:45 am]

BILLING CODE 6560-50-P